DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Dates and Times: Wednesday, November 18, 2020: 10:00 a.m.-5:30 p.m. EST.

Thursday, November 19, 2020: 11:30 a.m.-4:00 p.m. EST.

Place: Virtual.

Status: Open.

Purpose: At the November 18-19, 2020, meeting, the Committee will receive briefings from HHS officials, hold discussions on several health data policy topics and discuss its work plan for the upcoming 12-month period. The Committee will welcome four new members.

The Subcommittee on Standards will provide an update on follow up work from its hearing held in August 2020 to solicit information about the costs and benefits of a new operating rule for connectivity and two operating rules for the prior authorization transaction proposed by the Council for Affordable Quality Healthcare (CAQH), Committee on Operating Rules for Information Exchange (CORE). The Committee will also consider recommendations anticipated from the Office of the National Coordinator for Health Information Technology's (ONC) Health Information Technology Advisory Committee (HITAC), Task Force on Intersection of Clinical and Administrative Data (ICAD), on which four NCVHS members have participated. The Committee will consider next steps for a project to identify and recommend a path toward convergence of administrative and clinical data in light of the Task Force recommendations. The Committee has invited a representative of the new Office of Burden Reduction and Health Informatics, Centers for Medicare and Medicaid Services, to provide an update on the work of the Office and the potential intersection with the NCVHS work plan.

The Subcommittee on Privacy, Confidentiality, and Security will provide an update on the September 14, 2020, hearing that focused on data collection and use during a public health emergency and identify next steps for development of guidelines for methods and approaches to collect, use, protect, and share data responsibly during a pandemic or long-term nationwide public health emergency.

Members will consider major themes for the NCVHS 14th Report to Congress, which is planned for release in the first half of 2021. Members will consider and discuss priorities for Committee focus and revise the Committee work plan based on the two days of meeting proceedings.

A public comment period will be offered on both days. Meeting times and topics are subject to change. Please refer to the agenda posted at the NCVHS website for any updates.

Contact Person for More Information: Substantive program information may be obtained from Rebecca Hines, MHS, Executive Secretary, NCVHS, National Center for Health Statistics, Centers for Disease Control and Prevention, 3311 Toledo Road, Hyattsville, Maryland 20782, or via electronic mail to vgh4@cdc.gov; or by telephone (301) 458-4715. Summaries of meetings and a roster of Committee members are available on the home page of the NCVHS website, https://ncvhs.hhs.gov/, where further information including an agenda and instructions to access the broadcast of the meeting will also be posted.

Should you require reasonable accommodation, please contact the CDC Office of Equal Employment Opportunity on (770) 488-3210 as soon as possible.

Sharon Arnold,
Associate Deputy Assistant Secretary for Planning and Evaluation, Science and Data Policy, Office of the Assistant Secretary for Planning and Evaluation.

[FR Doc. 2020-23668 Filed 10-23-20; 8:45 am]

BILLING CODE 4150-05-P